DEPARTMENT OF TRANSPORTATION

Federal Highway Administration

Notice of Public Meeting: National Dialogue on Highway Automation

AGENCY: Federal Highway Administration (FHWA), U.S. Department of Transportation (DOT).

ACTION: Notice of public meetings.

SUMMARY: The FHWA is holding a National Dialogue on Highway Automation through a series of public meetings across the country to seek input on the integration of automated vehicles on the Nation's roadways. The objectives of the public meetings are: (1) To engage with a diverse group of stakeholders to understand key issues regarding automated vehicles and their implications for the roadway infrastructure; and (2) to gather input on highway automation to help inform FHWA research, policy, and programs. The public meetings will have presentations and breakout sessions during which participants can provide input to FHWA and DOT representatives. The National Dialogue meetings began on June 26 and will continue through the end of 2018.

DATE AND TIME: The FHWA will hold the public meetings in approximately five locations across the country. A tentative schedule is outlined below and is subject to change. Meeting information will be updated and made available on the FHWA National Dialogue on Highway Automation website: https://ops.fhwa.dot.gov/automationdialogue/index.htm.

Tentative meetings include the following:

• Week of July 30, 2018: National Workshop 2: Data and Digital Infrastructure (Seattle, Washington)

• September 2018: National Workshop 3: Freight (Chicago, Illinois)

• October 24-25, 2018: National Workshop 4: Operations (Phoenix, Arizona)

• November 14-15, 2018: National Workshop 5: Infrastructure and Multi-Modal Safety (Austin, Texas)

FOR FURTHER INFORMATION CONTACT: If you have questions about the public meeting, please contact John Corbin at john.corbin@dot.gov or highwayautomation@dot.gov.

SUPPLEMENTARY INFORMATION: Registration is necessary for all attendees. Registration information will be available at https://ops.fhwa.dot.gov/automationdialogue/index.htm. In-person attendance will be limited, so advance registration is required for all attendees. Should it be necessary to cancel the meeting due to inclement weather or other emergency, FHWA will take all available measures to notify registered participants beforehand.

Background

Automated vehicles have the potential to significantly transform the Nation's roadways. They could help save lives, expand access to transportation, and improve the convenience of travel. However, even as these technologies offer new opportunities, they may introduce new challenges for the agencies responsible for the planning, design, construction, operation, and maintenance of the Nation's roadway infrastructure. As a result, FHWA is interested in better understanding the implications of highway automation.

This National Dialogue on Highway Automation is an opportunity to engage the public and broader stakeholder community to understand their key areas of interest. These stakeholders will include original equipment manufacturers, technology suppliers, transportation network companies, associations, and public sector partners. The National Dialogue will help inform national research, policy, and implementation assistance activities to support automation readiness.

Meeting Format

The National Dialogue meetings are designed to support significant interaction among participants. Workshops will include discussions with government and industry leaders, breakout sessions, listening sessions, and opportunities to collaborate with meeting participants. Each workshop will run from 1 to 1.5 days and will have opportunities for general and topic-specific input. Focus areas identified include policy and planning, data and digital infrastructure, freight, operations, safety, infrastructure, and multi-modal safety.

Authority: 49 U.S.C. 1.25a.

Issued on: July 6, 2018.
Brandye L. Hendrickson,
Acting Administrator, Federal Highway Administration.

[FR Doc. 2018-15232 Filed 7-16-18; 8:45 am]

BILLING CODE 4910-22-P